DEPARTMENT OF COMMERCE

National Oceanic and Atmospheric Administration

[RTID 0648-XD866]

New England Fishery Management Council; Public Meetings

AGENCY: National Marine Fisheries Service (NMFS), National Oceanic and Atmospheric Administration (NOAA), Commerce.

ACTION: Notice of public meetings.

SUMMARY: The New England Fishery Management Council (Council) is holding three regional workshops to hear and discuss feedback from the public to inform development of its Atlantic Cod Management Transition Plan. Workshop summaries will be presented at a future Council meeting.

DATES: These meetings will be held between the dates of Tuesday, April 30, 2024, and Thursday, May 2, 2024. See SUPPLEMENTARY INFORMATION for more details on specific dates and times.

ADDRESSES: See SUPPLEMENTARY INFORMATION for specific addresses.

Council address: New England Fishery Management Council, 50 Water Street, Mill 2, Newburyport, MA 01950.

FOR FURTHER INFORMATION CONTACT: Cate O'Keefe, Ph.D., Executive Director, New England Fishery Management Council; telephone: (978) 465-0492.

SUPPLEMENTARY INFORMATION:

1. Tuesday, April 30, 2024, from 9:30 a.m.-4 p.m., Westin Hotel, 157 High Street, Portland, ME 04101;

2. Tuesday, May 1, 2024, from 9:30 a.m.-4 p.m., Four Points by Sheraton, One Audubon Road, Wakefield, MA 01880;

3. Wednesday, May 2, 2024, from 9:30 a.m.-4 p.m., 20 Hotel Drive, South Kingstown, RI 02879.

Agenda

The Council is holding three regional workshops to identify challenges and develop alternatives for addressing Atlantic cod management considering the new biological stock units. The Council is conducting these workshops to collect important feedback from fishing industry members and other stakeholders. The workshops are a platform for discussions and gathering different perspectives. A summary report of the workshops will be provided to the Council to help inform the development of its Atlantic Cod Management Transition Plan. For more details, see the Council's web page: https://www.nefmc.org/library/atlantic-cod-management-transition-plan.

Although non-emergency issues not contained on the agenda may come before this Council for discussion, those issues may not be the subject of formal action during these meetings. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

These meetings are physically accessible to people with disabilities. Requests for sign language interpretation or other auxiliary aids should be directed to Cate O'Keefe, Executive Director, at (978) 465-0492, at least 5 days prior to the meeting date.

Authority: 16 U.S.C. 1801 et seq.

Dated: April 8, 2024.
Rey Israel Marquez,
Acting Deputy Director, Office of Sustainable Fisheries, National Marine Fisheries Service.

[FR Doc. 2024-07727 Filed 4-10-24; 8:45 am]

BILLING CODE 3510-22-P